NATIONAL COUNCIL ON DISABILITY

Sunshine Act Meetings

Type: Quarterly Meeting.

Dates and Times:

April 19, 2010, 8:30 a.m.-3 p.m.

April 20, 2010, 8:30 a.m.-3 p.m.

Location: Detroit Marriott at the Renaissance Center, Renaissance Center, Detroit, MI 48243.

Status:

April 19, 2010, 8:30 a.m.-3 p.m.—Open.

April 20, 2010, 8 a.m.-8:30 a.m.—Closed Executive Session.

April 20, 2010, 8:30 a.m.-3 p.m.—Open.

Agenda: Public Comment Sessions; Emergency Management; Developmental Disabilities and Bill of Rights Act, International Development, National Summit on Disability Policy 2010, United States Marine Corps Research Project, Technology, Reports from the Chairperson and Council Members; Unfinished Business; New Business; Announcements; Adjournment.

Sunshine Act Meeting Contact: Mark S. Quigley, Director of Public Affairs, NCD, 1331 F Street, NW., Suite 850, Washington, DC 20004; 202-272-2004 (voice), 202-272-2074 (TTY), 202-272-2022 (fax).

Agency Mission: NCD is an independent federal agency, composed of 15 members appointed by the President, by and with the consent of the U.S. Senate.

The purpose of the NCD is to promote policies, programs, practices, and procedures that guarantee equal opportunity for all individuals with disabilities, and that empower individuals with disabilities to achieve economic self-sufficiency, independent living, and inclusion and integration into all aspects of society.

To carry out this mandate we gather public and stakeholder input, including that received at our public meetings held around the country; review and evaluate federal programs and legislation; and provide the President, Congress and federal agencies with advice and recommendations.

Accommodations: Those needing reasonable accommodations should notify NCD immediately.

Dated: March 4, 2010.
Joan M. Durocher,
Executive Director.

[FR Doc. 2010-5407 Filed 3-9-10; 11:15 am]

BILLING CODE 6820-MA-P